DELAWARE RIVER BASIN COMMISSION

Notice of Commission Meeting and Public Hearing

Notice is hereby given that the Delaware River Basin Commission will hold an informal conference followed by a public hearing on Wednesday, December 8, 2010. The hearing will be part of the Commission's regular business meeting. The conference session and business meeting both are open to the public and will be held at the West Trenton Volunteer Fire Company, located at 40 West Upper Ferry Road, West Trenton, New Jersey.

The conference among the commissioners and staff will begin at 10:30 a.m. and will consist of: A report by a representative of the National Weather Service (NOAA-NWS) on inundation mapping available on the web pages of the NWS Advanced Hydrologic Prediction Service; and a report by staff on historical and ongoing efforts to restore dissolved oxygen in the Delaware Estuary.

The subjects of the public hearing to be held during the 1:30 p.m. business meeting include the dockets listed below:

1. Pennsylvania Utility Company, D-1975-093 CP-4. An application for renewal of the Tamiment Wastewater Treatment Plant (WWTP). The existing 0.25 million gallons per day (mgd) WWTP will continue to spray irrigate treated effluent at the Tamiment Golf Course. Treated effluent that is not spray irrigated discharges to an unnamed tributary to Little Bush Kill, a tributary of the Delaware River. The facility is located in Lehman Township, Pike County, Pennsylvania and is located within the drainage area of the section of the non-tidal Delaware River known as the Middle Delaware, which is classified as Special Protection Waters. The project discharge is located at River Mile 226.9-0.8-1.5-1.85. The project outfall is located in the Bush Kill Watershed.

2. Pilgrim's Pride—Franconia, D-1989-065-3. An application to renew the discharge of up to 0.3 mgd of treated effluent from Outfall No. 001 at the Franconia Industrial Wastewater Treatment Plant (IWTP). The IWTP will continue to discharge to an unnamed tributary of Indian Creek at River Mile 92.47-32.3-11.3-5.5-3.4-0.8 (Delaware River—Schuylkill River—Perkiomen Creek—East Branch Perkiomen Creek—Indian Creek—UNT), in Franconia Township, Montgomery County, Pennsylvania.

3. Amity Township, D-1990-078 CP-3. An application to renew the approval of the existing 4.0 mgd Amity WWTP. Effluent limits required by PADEP and the DRBC are based upon an average monthly discharge flow of up to 2.2 mgd. Treated effluent will continue to discharge to the Schuylkill River via existing Outfall No. 001 at River Mile 92.47-58.35 (Delaware River—Schuylkill River), in Amity Township, Berks County, Pennsylvania.

4. Shoemakersville Borough Authority, D-1993-074 CP-3. An application to renew the discharge of up to 0.75 mgd of treated effluent from existing Outfall No. 001 at the Shoemakersville WWTP. The WWTP discharges to the Schuylkill River at River Mile 92.47-92.3 (Delaware River—Schuylkill River), in the Borough of Shoemakersville, Berks County, Pennsylvania.

5. Exelon Generation Company, LLC—Fairless Hills Generating Station, D-1996-063 CP-2. An application to renew approval of the Fairless Hills Generating Station (FHGS), which includes a subsidiary water allocation of 4,795.7 million gallons per month (mgm), provided by U.S. Steel Real Estate (U.S. Steel) to the Exelon FHGS. The water is used for cooling purposes associated with power generation. The FHGS is located within the U.S. Steel complex in Falls Township, Bucks County, Pennsylvania.

6. Dominion Energy Company—Fairless Hills Generation Energy Generating Facility, D-2001-028 CP-2. An application to renew approval of the Fairless Hills Generation Energy Generating Facility (FHG-EGF) and the subsidiary water allocation of 356.5 mgm provided by U.S. Steel Real Estate (U.S. Steel) to the Dominion FHG-EGF. The water is used for cooling purposes associated with power generation. The FHG-EGF is located within the U.S. Steel complex in Falls Township, Bucks County, Pennsylvania.

7. Penns Grove Sewerage Authority, D-2005-029 CP-2. An application for approval to continue discharging 0.75 mgd of treated effluent from the Penns Grove WWTP. The Penns Grove WWTP will continue to discharge to Water Quality Zone 5 at River Mile 72.0 (Delaware River). The Penns Grove WWTP is located in Penns Grove Borough, Salem County, New Jersey.

8. Exide Technologies, D-1976-097-2. Exide Technologies (Exide) applied to the Commission on February 27, 2007 for renewed approval of the discharge of up to 0.325 mgd of treated wastewater from the existing 0.7 mgd IWTP via Outfall No. 101, and the continuance of its current limits for Total Dissolved Solids (TDS). Exide proposes to reduce its average discharge from Outfall No. 101 from 0.325 mgd to 0.25 mgd, while maintaining its current approved monthly and daily average TDS effluent concentration limits of 6,000 mg/l and 7,500 mg/l. Additionally, Exide has requested approval to construct a 1.1 mgd stormwater treatment plant (SWTP). The SWTP is designed to remove lead and other heavy metals from contaminated stormwater runoff. The SWTP will discharge an average monthly flow of 0.4 mgd of treated stormwater via Outfall No. 201. The existing IWTP and proposed SWTP will discharge to a stormwater conveyance system that discharges to the Schuylkill River at River Mile 92.47-78.29 (Delaware River—Schuylkill River), in Muhlenberg Township, Berks County, Pennsylvania.

9. Valley Forge Sewer Authority, D-1995-006 CP-3. An application for approval of the expansion of the Valley Forge Sewer Authority WWTP. The hydraulic design capacity of the existing WWTP is proposed to be expanded from 9.2 mgd to 11.75 mgd. The expansion includes the addition of a second aeration tank and a fourth final clarifier and upgrading the headworks, primary clarifier system, secondary treatment system, sludge handling, and operations facilities of the existing WWTP. The WWTP will continue to discharge to the Schuylkill River. The facility is located in Schuylkill Township, Chester County, Pennsylvania.

10. Portland Borough Authority, D-1997-029 CP-2. Application for approval of a ground water withdrawal (GWD) project to supply up to 4.32 mgm of water to the applicant's public water supply system from new Well No. 4 and to increase the existing withdrawal from all wells from 5.7 million gallons per 30 days (mg/30 days) to 12.4 mgm. The increased allocation is requested in order to meet projected increases in service area demand and to replace lost yield from Well No. 3. The project well is completed in the Martinsburg Formation and is located in the Slateford Creek Watershed in Upper Mount Bethel Township, Northampton County, Pennsylvania. The site is located within the drainage area of the section of the non-tidal Delaware River known as the Lower Delaware, which is classified as Special Protection Waters.

11. United States Steel, LLC, D-2009-006-1. An application for approval of an existing surface water withdrawal project (SWWD) to continue to supply up to 15,772.43 mgm of water to the applicant's U.S. Steel Real Estate Complex. The complex houses four existing users and one new user, which are supplied from two existing intakes. The project SWWD is located in Water Quality Zone 2 of the Delaware River at River Mile 127.0, in Falls Township, Bucks County, Pennsylvania.

12. Deb-El Foods, D-2009-036-1. An application for approval to construct a 0.05 mgd IWTP that will discharge to the Neversink River at River Mile 253.64-28.7 (Delaware River—Neversink River) in the drainage area of the section of the Non-Tidal Delaware River known as the Middle Delaware, which is designated as Special Protection Waters. The IWTP is located in the Town of Thompson, Sullivan County, New York.

13. Frenchtown Borough, D-2010-021 CP-1. An application for approval of the upgrade and expansion of the existing Frenchtown Borough WWTP. The proposed upgrade to the WWTP consists of replacing the existing trickling filter treatment system with a new oxidation ditch treatment system. The hydraulic design capacity of the upgraded WWTP is also being expanded from 0.15 mgd to 0.26 mgd; however, the WWTP does not have planning approval to expand beyond 0.15 mgd, and therefore the WWTP will remain at a permitted flow of 0.15 mgd. The project WWTP was not previously approved by the DRBC. The WWTP will continue to discharge to the section of the non-tidal Delaware River known as the Lower Delaware, which is classified as Special Protection Waters, at River Mile 164.5 in Delaware River Water Quality Zone 1E. The facility is located in Frenchtown Borough, Hunterdon County, New Jersey.

14. Exelon Generation Company, LLC—Fairless Hills, D-2010-036 CP-1. An application for the approval of an existing discharge of up to 37.4 mgd of Power Plant Condenser Cooling Water (PPCCW), non-contact cooling water (NCCW) and stormwater from the Fairless Hills Generating Station (FHGS) via Outfall No. 001. Outfall No. 001 discharges to Water Quality Zone 2 of the Delaware River at River Mile 126.85. The FHGS is located within the U.S. Steel complex in Falls Township, Bucks County, Pennsylvania.

In addition to the standard business meeting items, consisting of adoption of the Minutes of the Commission's September 15, 2010 business meeting, announcements of upcoming meetings and events, a report on hydrologic conditions, reports by the Executive Director and the Commission's General Counsel, and public dialogue, the business meeting also will include public hearings: (a) On a resolution extending Docket No. D-69-210 CP Final (Revision 12) for the Exelon Limerick Generating Station Water Supply Modification Demonstration Project and Wadesville Mine Pool Withdrawal and Streamflow Augmentation Demonstration Project; (b) on a resolution authorizing the Executive Director to enter into an agreement for the management of comments received on a proposed rulemaking; (c) for Lambertville Municipal Utility Authority (LMUA) to show cause why its wastewater treatment plant improvements should not be subject to review in accordance with Section 3.8 of the Delaware River Basin Compact and DRBC Regulations; (d) on a resolution authorizing the Executive Director to enter into an agreement for the analysis of periphyton samples from the non-tidal Delaware River; and (e) on a resolution to adopt the Commission's operating and capital budgets for fiscal year 2012. Consideration by the Commission also will be given to a resolution amending the Water Quality Regulations, Water Code and Comprehensive Plan to update water quality criteria for toxic pollutants in the Delaware Estuary and extend these criteria to Delaware Bay (a proposal on which a public hearing was conducted on September 23, 2010), and a resolution to correct a technical error in the September 15, 2010 amendment of the water charging rates.

Draft dockets scheduled for public hearing on September 15, 2010 can be accessed through the Notice of Commission Meeting and Public Hearing on the Commission's Web site, drbc.net, ten days prior to the meeting date. Additional public records relating to the dockets may be examined at the Commission's offices. Please contact William Muszynski at 609-883-9500, extension 221, with any docket-related questions.

Note that conference items are subject to change and items scheduled for hearing are occasionally postponed to allow more time for the Commission to consider them. Please check the Commission's website, drbc.net, closer to the meeting date for changes that may be made after the deadline for filing this notice.

Individuals who wish to comment for the record on a hearing item or to address the Commissioners informally during the public dialogue portion of the meeting are asked to sign up in advance by contacting Ms. Paula Schmitt of the Commission staff, at paula.schmitt@drbc.state.nj.us or by phoning Ms. Schmitt at 609-883-9500 ext. 224.

Individuals in need of an accommodation as provided for in the Americans with Disabilities Act who wish to attend the informational meeting, conference session or hearings should contact the Commission Secretary directly at 609-883-9500 ext. 203 or through the Telecommunications Relay Services (TRS) at 711, to discuss how the Commission can accommodate your needs.

Dated: November 16, 2010.
Pamela M. Bush,
Commission Secretary.

[FR Doc. 2010-29366 Filed 11-19-10; 8:45 am]

BILLING CODE 6360-01-P